DEPARTMENT OF COMMERCE

National Oceanic and Atmospheric Administration

50 CFR Part 648

[Docket No. 030227050-3082-02; I.D. 010904C]

Fisheries of the Northeastern United States; Spiny Dogfish Fishery; Reopening of Commercial Fishery

AGENCY: National Marine Fisheries Service (NMFS), National Oceanic and Atmospheric Administration (NOAA), Commerce.

ACTION: Commercial fishery reopening.

SUMMARY: NMFS announces that spiny dogfish commercial fishery will reopen. Vessels issued a Federal moratorium permit to harvest spiny dogfish may possess up to 300 lb (136 kg) of spiny dogfish per trip per calendar day on 0001 hours local time, January 12, 2004, through 2359 hours local time, April 30, 2004. The intent of this action is to allow for the full utilization of the commercial quota allocated to the spiny dogfish fishery.

DATES: Effective 0001 hours local time, January 12, 2004, through 2359 hours local time, April 30, 2004.

FOR FURTHER INFORMATION CONTACT: Paul H. Jones, Fishery Policy Analyst, 978-281-9273, fax 978-281-9135, e-mail paul.h.jones@noaa.gov.

SUPPLEMENTARY INFORMATION: Section 648.231 of part 50 CFR requires NMFS to close the commercial fishery for spiny dogfish in the EEZ for each semi-annual quota period when the quota is determined to be harvested. The Administrator, Northeast Region, NMFS, based on dealer reports, state data, and other available information, determined that the quota for Quota Period 2 would be harvested (68 FR 41945, July 16, 2003), therefore, effective 0001 hours, July 18, 2003, the commercial fishery for spiny dogfish in the EEZ was closed. However, new projections indicate the quota of spiny dogfish may not be attained. Therefore, NMFS announces that the commercial fishery for spiny dogfish in the EEZ will reopen. Vessels issued a Federal moratorium permit to harvest spiny dogfish may possess up to 300 lb (136 kg) of spiny dogfish per trip per calendar day effective 0001 hours local time, January 12, 2004, through 2359 hours local time, April 30, 2004.

Classification

This action is required by 50 CFR part 648 and is exempt from review under E.O. 12866.

Authority: 16 U.S.C. 1801 et seq.

Dated: January 12, 2003.
Bruce C. Morehead,
Acting Director, Offfice of Sustainable Fisheries, National Marine Fisheries Service.

[FR Doc. 04-900 Filed 1-12-04; 2:38 pm]

BILLING CODE 3510-22-S